DEPARTMENT OF COMMERCE

International Trade Administration

[A-570-806]

Silicon Metal From the People's Republic of China (PRC): Postponement of Time Limit for Preliminary Results of New Shipper Antidumping Review in Conjunction with Administrative Review

AGENCY: Import Administration, International Trade Administration, Department of Commerce.

SUMMARY: On October 2, 2002, the Department of Commerce (the Department) received a request from China Shanxi Province Lin Fen Prefecture Foreign Trade Import and Export Corp. (Lin Fen) for an expansion of the normal period of review (POR) of the new shipper review. In the same letter, Lin Fen agreed to waive the time limits of section 351.214(i) of the Department's regulations so that the Department may conduct the new shipper review concurrently with the administrative review of silicon metal from the PRC for the period June 1, 2001, through May 31, 2002 (67 FR 48435). Therefore, pursuant to Lin Fen's request and in accordance with the Department's regulations, we will expand the normal POR of the new shipper review by 45 days, from June 1, 2001 through November 30, 2001 to June 1, 2001 through January 14, 2002, and conduct this new shipper review concurrently with the administrative review.

EFFECTIVE DATE: November 22, 2002.

FOR FURTHER INFORMATION CONTACT: Christian Hughes or Maureen Flannery, Import Administration, International Trade Administration, U.S. Department of Commerce, 14th Street and Constitution Avenue, NW, Washington, D.C. 20230; telephone: (202) 482-0190 and (202) 482-3020, respectively.

SUPPLEMENTARY INFORMATION:

The Applicable Statute and Regulations

Unless otherwise indicated, all citations to the statute are references to the Tariff Act of 1930, as amended (the Act). In addition, unless otherwise indicated, all citations to the Department's regulations are to the regulations codified at 19 CFR part 351 (2001).

Background

On December 31, 2001, the Department received a timely request from Lin Fen to conduct a new shipper review of the antidumping duty order on silicon metal from the PRC. On January 31, 2002 (67 FR 5966), the Department initiated the new shipper antidumping review covering the period June 1, 2001, through November 30, 2001. On June 28, 2002, the Department received a timely request from Lin Fen to conduct an administrative review of this antidumping duty order. On July 24, 2002, the Department initiated the administrative antidumping review covering the period June 1, 2001, through May 31, 2002 (67 FR 48435).

Postponement of New Shipper Review

On October 2, 2002, Lin Fen, in accordance with section 351.214(j)(3), agreed to waive the applicable time limits for the new shipper review so that the Department might conduct the new shipper review concurrently with the June 1, 2001 through May 31, 2002 administrative review of silicon metal from the PRC, and also requested an expansion of the new shipper review POR in order to include both sales to an unaffiliated customer and entries of subject merchandise into the United States. The Department has the discretion to expand the POR in order to cover entries of the subject merchandise. See section 351.214(f)(2)(ii) of the Department's regulations, and the preamble to the Department's regulations, which specifically discusses the Department's ability to expand the POR by 30 days or more, at 66 FR 27319-27320 (May 19, 1997). Therefore, we have decided to expand the new shipper POR by 45 days until January 14, 2002 in order to capture both sales to an unaffiliated customer and entries of subject merchandise into the United States. Pursuant to Lin Fen's request, and in accordance with section 351.214(j)(3) the Department's regulations, we will conduct this new shipper review concurrently with the June 1, 2001 through May 31, 2002 administrative review of silicon metal from the PRC. Therefore, the preliminary results of the antidumping new shipper review, as well as the administrative review, will be due 245 days from the last day of the administrative review period, i.e., March 2, 2003. See section 351.213(h) of the Department's regulations. Because this date falls on a weekend, we will issue the preliminary results of both reviews on the next business day, March 3, 2003.

This notice is published in accordance with section 751(a)(2)(B) of the Act and section 351.214(j)(3) of the Department's regulations.

Dated: November 15, 2002.
Barbara E. Tillman,
Acting Deputy Assistant Secretaryfor Import Administration, Group III.

[FR Doc. 02-29788 Filed 11-21-02; 8:45 am]

BILLING CODE 3510-DS-S